DEPARTMENT OF TRANSPORTATION

Federal Aviation Administration

14 CFR Part 39

[Docket No. FAA-2017-0526; Product Identifier 2017-NM-026-AD; Amendment 39-19109; AD 2017-24-05]

RIN 2120-AA64

Airworthiness Directives; The Boeing Company Airplanes

Correction

In rule document 2017-25379 beginning on page 56156 in the issue of Tuesday, November 28, 2017, make the following correction:

On page 56157, in the third column, in § 39.13, under the heading (c) Applicability, the second and third lines should read as follows: “Company Model 737-100, -200, -200C, -300, -400, and -500 series airplanes,”.

[FR Doc. C1-2017-25379 Filed 12-20-17; 8:45 am]

BILLING CODE 1505-01-D